DEPARTMENT OF THE INTERIOR

National Park Service

National Register of Historic Places; Notification of Pending Nominations and Related Actions

Nominations for the following properties being considered for listing or related actions in the National Register were received by the National Park Service before April 12, 2008. Pursuant to section 60.13 of 36 CFR Part 60 written comments concerning the significance of these properties under the National Register criteria for evaluation may be forwarded by United States Postal Service to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by May 13, 2008.

J. Paul Loether,
Chief, National Register of Historic Places/National Historic Landmarks Program.

ALABAMA

Chambers County

Vines Funeral Home and Ambulance Service, 211 B St. SW., Lafayette, 08000434

Jefferson County

King, A.D., House, (Civil Rights Movement in Birmingham, Alabama 1933-1979 MPS) 721 12th St. Ensley, Birmingham, 08000428

Mobile County

Tanner Farmhouse, 6885 Walter Tanner Rd., Wilmer, 08000429.

ARIZONA

Pima County

Catalina American Baptist Church, 1900 N. Country Club Rd., Tucson, 08000430

ARKANSAS

Benton County

Benton County Poor Farm Cemetery, W. side NE. Young Ave. approx. 200 ft. N. of NE. Carnahan Ct., Bentonville, 08000431

Boone County

Carrollton Road—Carrollton Segment, (Cherokee Trail of Tears MPS) Co. Rd. 917, Terrapin Cr. Rd. & Dunkard Rd. between U.S. 412 & Green Hill Rd., Carrollton, 08000432

Calhoun County

Hampton Masonic Lodge Building, 115 S. 2nd St., Hampton, 08000433

Columbia County

Magnolia Commercial Historic District, Roughly bounded by Madison Ave., Calhoun St., Jackson Ave. & Union St., Magnolia, 08000435

Dallas County

Fordyce Commercial Historic District, Roughly bounded by Oak, 5th & Spring Sts. & AR 274, Fordyce, 08000436

Hempstead County

Oakhaven Historic District, 359-383 Oakhaven, Oakhaven, 08000437

Jefferson County

Pine Bluff Commercial Historic District, Roughly bounded by U.S. 65B, Walnut St., 01th Ave. & S. Alabama St., Pine Bluff, 08000438

Little River County

Ashdown Commercial Historic District, Roughly bounded by Keller, E. Main Commerce & N. Constitution Sts., Ashdown, 08000439

Miller County

Old Arkansas 2—Mayton Segment, (Arkansas Highway History and Architecture MPS) Co. Rds. 122 & 123, Garland, 08000440

GEORGIA

Chatham County

Johnson, J. Herbert and Julia, Raised Tybee Cottage, 1306 Jones Ave., Tybee Island, 08000441

Clarke County

Owens, Hubert Bond, House, 215 W. Rutherford St., Athens, 08000442

IOWA

Webster County

Wahkonsa Hotel, 927 Central Ave., Fort Dodge, 08000443

Woodbury County

Sioux City Fire Station Number 3, 1211 5th St., Sioux City, 08000444

MASSACHUSETTS

Plymouth County

War Memorial Park, River St., West Bridgewater, 08000445

NEW YORK

Broome County

Bevier—Wright House, 776 Chenango St., Port Dickinson, 08000446

Patterson—Hooper Family Cemetery, River Rd., Endwell, 08000447

Cayuga County

Howland, Augustus, House, 1395 Sherwood Rd., Sherwood, 08000448

Chemung County

Chemung District School No. 10, Old NY 17 at Lowman Rd., Lowman, 08000449

New York County

House at 146 East 38th St., (Murray Hill, New York County, New York MPS) 146 E. 38th St., New York, 08000450

Niagara County

Chase—Crowley—Keep House, (Stone Buildings of Lockport, New York MPS) 305 High St., Lockport, 08000451

Chase—Hubbard—Williams House, (Stone Buildings of Lockport, New York MPS) 327 High St., Lockport, 08000452

RHODE ISLAND

Providence County

French Worsted Company Mill Historic District, 153 Hamlet Ave., Woonsocket, 08000453

VERMONT

Bennington County

Downtown Bennington Historic District (Boundary Increase), North, Main & Silver Sts., Bennington, 08000454

[FR Doc. E8-9153 Filed 4-25-08; 8:45 am]

BILLING CODE 4312-51-P